SMALL BUSINESS ADMINISTRATION

[Declaration of Disaster No. 3562]

State of California

As a result of the President's major disaster declaration on January 13, 2004, I find that San Luis Obispo County in the State of California constitutes a disaster area due to damages caused by an earthquake occurring on December 22, 2003, and continuing. Applications for loans for physical damage as a result of this disaster may be filed until the close of business on March 15, 2004 and for economic injury until the close of business on October 13, 2004 at the address listed below or other locally announced locations:

U.S. Small Business Administration, Disaster Area 4 Office, P.O. Box 419004, Sacramento, CA 95841-9004.

In addition, applications for economic injury loans from small businesses located in the following contiguous counties may be filed until the specified date at the above location: Kern, Kings, Monterey and Santa Barbara in the State of California.

The interest rates are:

| Percent
For Physical Damage:
Homeowners with credit available elsewhere | 6.250
Homeowners without credit available elsewhere | 3.125
Businesses with credit available elsewhere | 6.123
Businesses and non-profit organizations without credit available elsewhere | 3.061
Others (including non-profit organizations) with credit available elsewhere | 4.875
For Economic Injury:
Businesses and small agricultural cooperatives without credit available elsewhere | 3.061

The number assigned to this disaster for physical damage is 356202 and for economic injury the number is 9Z0900.

(Catalog of Federal Domestic Assistance Program Nos. 59002 and 59008)
Dated: January 14, 2004.
S. George Camp,
Acting Associate Administrator for Disaster Assistance.

[FR Doc. 04-1273 Filed 1-21-04; 8:45 am]

BILLING CODE 8025-01-P